NATIONAL SCIENCE FOUNDATION

Advisory Committee for Environmental Research and Education Notice of Meeting

In accordance with the Federal Advisory Committee Act (Pub. L. 92-463, as amended), the National Science Foundation (NSF) announces the following meeting:

NAME AND COMMITTEE CODE: Advisory Committee for Environmental Research and Education (9487).

DATE AND TIME: March 18, 2021; 11:00 a.m.—5:30 p.m.

PLACE: National Science Foundation, 2415 Eisenhower Avenue, Alexandria, VA 22314 | Videoconference. Interested parties can register to join via teleconference at: https://nsf.zoomgov.com/meeting/register/vJItcuygrzwoEiu7Xv04t0Roz4lO1NTmASo.

Closed Caption will be available at: https://www.captionedtext.com/client/event.aspx?EventID=4714537&CustomerID=321

TYPE OF MEETING: Open.

CONTACT PERSON: Gayle Pugh Lev, Office of Integrative Activities/Office of the Director/National Science Foundation, 2415 Eisenhower Avenue, Alexandria, VA 22314. (Email: acere-poc@nsf.gov; Telephone: (703) 292-8040).

MINUTES: Will be available on the AC's website at: https://www.nsf.gov/ere/ereweb/minutes.jsp

PURPOSE OF MEETING: To provide advice, recommendations, and oversight concerning support for environmental research and education.

AGENDA: To discuss subcommittee work and prepare for future advisory committee activities. Updated agenda will be available at https://www.nsf.gov/ere/ereweb/minutes.jsp.

Dated: February 17, 2021.
Crystal Robinson,
Committee Management Officer.

[FR Doc. 2021-03475 Filed 2-19-21; 8:45 am]

BILLING CODE 7555-01-P